DEPARTMENT OF TRANSPORTATION

Federal Aviation Administration

14 CFR Part 97

[Docket No. 31229; Amdt. No. 3831]

Standard Instrument Approach Procedures, and Takeoff Minimums and Obstacle Departure Procedures; Miscellaneous Amendments

AGENCY: Federal Aviation Administration (FAA), DOT.

ACTION: Final rule.

SUMMARY: This rule establishes, amends, suspends, or removes Standard Instrument Approach Procedures (SIAPs) and associated Takeoff Minimums and Obstacle Departure Procedures (ODPs) for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective February 7, 2019. The compliance date for each SIAP, associated Takeoff Minimums, and ODP is specified in the amendatory provisions.

The incorporation by reference of certain publications listed in the regulations is approved by the Director of the Federal Register as of February 7, 2019.

ADDRESSES: Availability of matters incorporated by reference in the amendment is as follows:

For Examination

1. U.S. Department of Transportation, Docket Ops-M30, 1200 New Jersey Avenue SE, West Bldg., Ground Floor, Washington, DC 20590-0001.

2. The FAA Air Traffic Organization Service Area in which the affected airport is located;

3. The office of Aeronautical Navigation Products, 6500 South MacArthur Blvd., Oklahoma City, OK 73169 or,

4. The National Archives and Records Administration (NARA). For information on the availability of this material at NARA, call 202-741-6030, or go to: http://www.archives.gov/federal_register/code_of_federal_regulations/ibr_locations.html.

Availability

All SIAPs and Takeoff Minimums and ODPs are available online free of charge. Visit the National Flight Data Center at nfdc.faa.gov to register. Additionally, individual SIAP and Takeoff Minimums and ODP copies may be obtained from the FAA Air Traffic Organization Service Area in which the affected airport is located.

FOR FURTHER INFORMATION CONTACT: Thomas J. Nichols, Flight Procedures and Airspace Group, Flight Technologies and Procedures Division, Flight Standards Service, Federal Aviation Administration. Mailing Address: FAA Mike Monroney Aeronautical Center, Flight Procedures and Airspace Group, 6500 South MacArthur Blvd., Registry Bldg. 29 Room 104, Oklahoma City, OK 73125. Telephone: (405) 954-4164.

SUPPLEMENTARY INFORMATION: This rule amends Title 14 of the Code of Federal Regulations, Part 97 (14 CFR part 97), by establishing, amending, suspending, or removes SIAPS, Takeoff Minimums and/or ODPS. The complete regulatory description of each SIAP and its associated Takeoff Minimums or ODP for an identified airport is listed on FAA form documents which are incorporated by reference in this amendment under 5 U.S.C. 552(a), 1 CFR part 51, and 14 CFR part 97.20. The applicable FAA forms are FAA Forms 8260-3, 8260-4, 8260-5, 8260-15A, and 8260-15B when required by an entry on 8260-15A.

The large number of SIAPs, Takeoff Minimums and ODPs, their complex nature, and the need for a special format make publication in the Federal Register expensive and impractical. Further, airmen do not use the regulatory text of the SIAPs, Takeoff Minimums or ODPs, but instead refer to their graphic depiction on charts printed by publishers of aeronautical materials. Thus, the advantages of incorporation by reference are realized and publication of the complete description of each SIAP, Takeoff Minimums and ODP listed on FAA form documents is unnecessary. This amendment provides the affected CFR sections and specifies the types of SIAPs, Takeoff Minimums and ODPs with their applicable effective dates. This amendment also identifies the airport and its location, the procedure, and the amendment number.

Availability and Summary of Material Incorporated by Reference

The material incorporated by reference is publicly available as listed in the ADDRESSES section.

The material incorporated by reference describes SIAPS, Takeoff Minimums and/or ODPS as identified in the amendatory language for part 97 of this final rule.

The Rule

This amendment to 14 CFR part 97 is effective upon publication of each separate SIAP, Takeoff Minimums and ODP as Amended in the transmittal. Some SIAP and Takeoff Minimums and textual ODP amendments may have been issued previously by the FAA in a Flight Data Center (FDC) Notice to Airmen (NOTAM) as an emergency action of immediate flight safety relating directly to published aeronautical charts.

The circumstances that created the need for some SIAP and Takeoff Minimums and ODP amendments may require making them effective in less than 30 days. For the remaining SIAPs and Takeoff Minimums and ODPs, an effective date at least 30 days after publication is provided.

Further, the SIAPs and Takeoff Minimums and ODPs contained in this amendment are based on the criteria contained in the U.S. Standard for Terminal Instrument Procedures (TERPS). In developing these SIAPs and Takeoff Minimums and ODPs, the TERPS criteria were applied to the conditions existing or anticipated at the affected airports. Because of the close and immediate relationship between these SIAPs, Takeoff Minimums and ODPs, and safety in air commerce, I find that notice and public procedure under 5 U.S.C. 553(b) are impracticable and contrary to the public interest and, where applicable, under 5 U.S.C. 553(d), good cause exists for making some SIAPs effective in less than 30 days.

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26,1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, Navigation (Air).

Issued in Washington, DC, on December 14, 2018.
Rick Domingo,
Executive Director, Flight Standards Service.

Adoption of the Amendment

Accordingly, pursuant to the authority delegated to me, Title 14, Code of Federal Regulations, Part 97 (14 CFR part 97) is amended by establishing, amending, suspending, or removing Standard Instrument Approach Procedures and/or Takeoff Minimums and Obstacle Departure Procedures effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

Effective 31 January 2019

Brooksville, FL, Brooksville-Tampa Bay Rgnl, RNAV (GPS) RWY 9, Amdt 1D

Brooksville, FL, Brooksville-Tampa Bay Rgnl, RNAV (GPS) RWY 27, Amdt 1D

Fort Madison, IA, Fort Madison Muni, RNAV (GPS) RWY 17, Amdt 1B

Williamsburg, KY, Williamsburg-Whitley County, LOC RWY 20, Orig-C

Williamsburg, KY, Williamsburg-Whitley County, RNAV (GPS) RWY 20, Amdt 1B

Williamsburg, KY, Williamsburg-Whitley County, VOR RWY 20, Orig-D

Romeo, MI, Romeo State, RNAV (GPS) RWY 18, Amdt 1C

Romeo, MI, Romeo State, RNAV (GPS) RWY 36, Amdt 1D

Fulton, MO, Elton Hensley Memorial, RNAV (GPS) RWY 36, Orig-A

Glens Falls, NY, Floyd Bennett Memorial, ILS OR LOC RWY 1, Amdt 5A

Harrisburg, PA, Harrisburg Intl, ILS OR LOC RWY 13, ILS RWY 13 CAT II, ILS RWY 13 CAT III, Amdt 2A

Perkasie, PA, Pennridge, RNAV (GPS) RWY 8, Amdt 1D

Perkasie, PA, Pennridge, RNAV (GPS) RWY 26, Orig-D

Trenton, TN, Gibson County, Takeoff Minimums and Obstacle DP, Amdt 2

San Antonio, TX, Stinson Muni, RNAV (GPS) RWY 32, Orig-B

San Antonio, TX, Stinson Muni, VOR RWY 32, Amdt 14B

Ladysmith, WI, Rusk County, RNAV (GPS) RWY 14, Orig-B

Effective 28 February 2019

Birmingham, AL, Birmingham-Shuttlesworth Intl, ILS OR LOC RWY 6, ILS RWY 6 CAT II, Amdt 43

Birmingham, AL, Birmingham-Shuttlesworth Intl, ILS OR LOC RWY 24, ILS RWY 24 SA CAT II, Amdt 5

Huntsville, AL, Huntsville Executive Tom Sharp Jr Field, ILS OR LOC RWY 18, Amdt 1C

Huntsville, AL, Huntsville Executive Tom Sharp Jr Field, VOR-B, Amdt 7B

Vernon, AL, Lamar County, RNAV (GPS) RWY 17, Orig-A

Bentonville, AR, Bentonville Muni/Louise M Thaden Field, RNAV (GPS) RWY 36, Amdt 2A

Camden, AR, Harrell Field, VOR/DME RWY 1, Amdt 10B, CANCELED

Firebaugh, CA, Firebaugh, RNAV (GPS)-B, Orig-A

Firebaugh, CA, Firebaugh, VOR-A, Amdt 4

Half Moon Bay, CA, Half Moon Bay, RNAV (GPS) RWY 12, Amdt 1

Half Moon Bay, CA, Half Moon Bay, RNAV (GPS) RWY 30, Amdt 1

Half Moon Bay, CA, Half Moon Bay, RNAV (GPS) Y RWY 30, Orig, CANCELED

Half Moon Bay, CA, Half Moon Bay, RNAV (GPS) Z RWY 12, Orig-B, CANCELED

Laurel, DE, Laurel, RNAV (GPS)-A, ORIG-A

Apalachicola, FL, Apalachicola Regional, RNAV (GPS) RWY 18, Orig-B, CANCELED

Apalachicola, FL, Apalachicola Regional, RNAV (GPS) RWY 36, Orig-B, CANCELED

Immokalee, FL, Immokalee Rgnl, VOR RWY 18, Amdt 6B, CANCELED

Jacksonville, FL, Cecil, TACAN RWY 9R, Orig-A, CANCELED

Lakeland, FL, Lakeland Linder Intl, ILS OR LOC RWY 9, Orig-C

Lakeland, FL, Lakeland Linder Intl, RNAV (GPS) RWY 5, Orig-F

Lakeland, FL, Lakeland Linder Intl, RNAV (GPS) RWY 9, Amdt 2D

Lakeland, FL, Lakeland Linder Intl, RNAV (GPS) RWY 23, Orig-D

Lakeland, FL, Lakeland Linder Intl, RNAV (GPS) RWY 27, Amdt 2C

Lakeland, FL, Lakeland Linder Intl, Takeoff Minimums and Obstacle DP, Amdt 1B

Lakeland, FL, Lakeland Linder Intl, VOR RWY 9, Amdt 4E

Lakeland, FL, Lakeland Linder Intl, VOR RWY 27, Amdt 7H

Pensacola, FL, Pensacola Intl, NDB RWY 35, Orig-A

St Petersburg-Clearwater, FL, St Pete-Clearwater Intl, VOR-B, Orig

Titusville, FL, Space Coast Rgnl, ILS OR LOC RWY 36, Amdt 13

Winter Haven, FL, Winter Haven Rgnl, RNAV (GPS) RWY 5, Amdt 1C

Winter Haven, FL, Winter Haven Rgnl, RNAV (GPS) RWY 11, Orig-A

Winter Haven, FL, Winter Haven Rgnl, Takeoff Minimums and Obstacle DP, Amdt 1A

Winter Haven, FL, Winter Haven Rgnl, VOR-A, Amdt 7A

Butler, GA, Butler Muni, RNAV (GPS) RWY 1, Amdt 2

Butler, GA, Butler Muni, RNAV (GPS) RWY 19, Amdt 2

Butler, GA, Butler Muni, Takeoff Minimums and Obstacle DP, Amdt 1A

Washington, GA, Washington-Wilkes County, Takeoff Minimums and Obstacle DP,Orig-A

Forest City, IA, Forest City Muni, RNAV (GPS) RWY 15, Orig-B

Marshalltown, IA, Marshalltown Muni, RNAV (GPS) RWY 13, Amdt 1B

Marshalltown, IA, Marshalltown Muni, RNAV (GPS) RWY 31, Amdt 1B

Mason City, IA, Mason City Muni, ILS OR LOC RWY 36, Amdt 6H

Mason City, IA, Mason City Muni, LOC BC RWY 18, Amdt 7C

Pocahontas, IA, Pocahontas Muni, RNAV (GPS) RWY 30, Orig-E

Sac City, IA, Sac City Muni, NDB RWY 36, Amdt 4B, CANCELED

Sheldon, IA, Sheldon Rgnl, RNAV (GPS) RWY 33, Amdt 1C

Spencer, IA, Spencer Muni, VOR RWY 30, Amdt 3C

Casey, IL, Casey Muni, RNAV (GPS) RWY 4, Orig-A

Chicago/West Chicago, IL, DuPage, RNAV (GPS) RWY 20R, Amdt 1G

Bloomington, IN, Monroe County, RNAV (GPS) RWY 6, Orig-C

Fort Wayne, IN, Fort Wayne Intl, VOR OR TACAN RWY 5, Amdt 20A

Fort Wayne, IN, Fort Wayne Intl, VOR OR TACAN RWY 14, Amdt 17A

Marysville, KS, Marysville Muni, RNAV (GPS) RWY 16, Orig-B

Meade, KS, Meade Muni, RNAV (GPS) RWY 17, Orig-B

Meade, KS, Meade Muni, RNAV (GPS) RWY 35, Orig-B

Newton, KS, Newton-City-County, NDB RWY 35, Amdt 3, CANCELED

St Francis, KS, Cheyenne County Muni, Takeoff Minimums and Obstacle DP,Orig-A

Hazard, KY, Wendell H Ford, LOC RWY 14, Orig-C

Hazard, KY, Wendell H Ford, RNAV (GPS) RWY 14, Amdt 1C

Hazard, KY, Wendell H Ford, RNAV (GPS) RWY 32, Orig-C

Hazard, KY, Wendell H Ford, VOR RWY 14, Amdt 1D

Charlevoix, MI, Charlevoix Muni, RNAV (GPS) RWY 9, Amdt 1A

Detroit, MI, Detroit Metropolitan Wayne County, ILS OR LOC RWY 21L, ILS RWY 21L SA CAT I, ILS RWY 21L SA CAT II, Amdt 13A

Detroit, MI, Detroit Metropolitan Wayne County, RNAV (GPS) PRM Z RWY 4R (CLOSE PARALLEL), Amdt 1A

Detroit, MI, Detroit Metropolitan Wayne County, RNAV (GPS) PRM Z RWY 22L (CLOSE PARALLEL), Amdt 1A

Detroit, MI, Detroit Metropolitan Wayne County, RNAV (GPS) Z RWY 4R, Amdt 4A

Detroit, MI, Detroit Metropolitan Wayne County, RNAV (GPS) Z RWY 21L, Amdt 4A

Detroit, MI, Detroit Metropolitan Wayne County, RNAV (RNP) W RWY 4L, Orig

Detroit, MI, Detroit Metropolitan Wayne County, RNAV (RNP) W RWY 21L, Orig-A

Detroit, MI, Detroit Metropolitan Wayne County, RNAV (RNP) X RWY 3R, Orig-B

Detroit, MI, Detroit Metropolitan Wayne County, RNAV (RNP) X RWY 21L, Orig-B

Grand Haven, MI, Grand Haven Memorial Airpark, VOR-A, Amdt 16A, CANCELED

Cook, MN, Cook Muni, RNAV (GPS) RWY 13, Orig-C

Cook, MN, Cook Muni, RNAV (GPS) RWY 31, Amdt 1C

Preston, MN, Fillmore County, RNAV (GPS) RWY 11, Orig-C

Silver Bay, MN, Silver Bay Muni, NDB RWY 25, Orig-A, CANCELED

Silver Bay, MN, Silver Bay Muni, RNAV (GPS) RWY 25, Orig-A, CANCELED

Silver Bay, MN, Silver Bay Muni, Takeoff Minimums and Obstacle DP, Amdt 1, CANCELED

St James, MN, St James Muni, NDB RWY 33, Amdt 1B, CANCELED

Charleston, MO, Mississippi County, NDB RWY 36, Amdt 4B, CANCELED

Festus, MO, Festus Memorial, RNAV (GPS)-A, Orig-A

Kansas City, MO, Charles B Wheeler Downtown, Takeoff Minimums and Obstacle DP, Amdt 5

St Louis, MO, Spirit of St Louis, RNAV (GPS) RWY 26L, Amdt 1

St Louis, MO, Spirit of St Louis, RNAV (GPS) RWY 26R, Amdt 1

Tupelo, MS, Tupelo Rgnl, ILS Z OR LOC Z RWY 36, Amdt 10A

Chapel Hill, NC, Horace Williams, RNAV (GPS) RWY 9, Orig-B, CANCELED

Chapel Hill, NC, Horace Williams, RNAV (GPS) RWY 27, Orig-B, CANCELED

Chapel Hill, NC, Horace Williams, Takeoff Minimums and Obstacle DP, Amdt 3, CANCELED

Chapel Hill, NC, Horace Williams, VOR RWY 27, Amdt 1D, CANCELED

Mount Airy, NC, Mount Airy/Surry County, RNAV (GPS) RWY 36, Amdt 1A

Pinehurst/Southern Pines, NC, Moore County, ILS Y OR LOC Y RWY 5, Orig-C

Pinehurst/Southern Pines, NC, Moore County, ILS Z OR LOC Z RWY 5, Amdt 2C

Siler City, NC, Siler City Muni, RNAV (GPS) RWY 4, Orig-B

Washington, NC, Washington-Warren, RNAV (GPS) RWY 17, Amdt 1A, CANCELED

Washington, NC, Washington-Warren, VOR/DME RWY 5, Amdt 3B, CANCELED

Grand Forks, ND, Grand Forks Intl, RNAV (GPS) RWY 35L, Orig-B

Cozad, NE, Cozad Muni, RNAV (GPS) RWY 31, Amdt 1B

Manchester, NH, Manchester, ILS OR LOC RWY 17, Amdt 3A

Old Bridge, NJ, Old Bridge, RNAV (GPS) RWY 6, Orig-B

Old Bridge, NJ, Old Bridge, RNAV (GPS) RWY 24, Orig-B

East Hampton, NY, East Hampton, RNAV (GPS) Y RWY 28, Amdt 2

East Hampton, NY, East Hampton, RNAV (GPS) Z RWY 28, Amdt 1

New York, NY, John F Kennedy Intl, RNAV (GPS) RWY 13R, Orig

Sidney, NY, Sidney Muni, RNAV (GPS) RWY 7, Orig-E

Marion, OH, Marion Muni, LOC/DME RWY 25, Orig-B, CANCELED

Okmulgee, OK, Okmulgee Rgnl, ILS OR LOC RWY 18, Amdt 1B

Tulsa, OK, Tulsa Intl, ILS OR LOC RWY 36R, ILS RWY 36R SA CAT I, ILS RWY 36R CAT II, Amdt 29G

Lakeview, OR, Lake County, RNAV (GPS) RWY 17, Amdt 1

Lakeview, OR, Lake County, RNAV (GPS) RWY 35, Amdt 1

Philipsburg, PA, Mid-State, VOR RWY 24, Amdt 16C

Pottstown, PA, Pottstown Muni, RNAV (GPS) RWY 26, Orig-A

Pottstown, PA, Pottstown Muni, VOR-B, Amdt 5A

Georgetown, SC, Georgetown County, NDB RWY 5, Amdt 6A, CANCELED

Aberdeen, SD, Aberdeen Rgnl, ILS OR LOC RWY 31, Amdt 13A

Aberdeen, SD, Aberdeen Rgnl, RNAV (GPS) RWY 31, Orig-B

Aberdeen, SD, Aberdeen Rgnl, VOR RWY 13, Amdt 13B

Aberdeen, SD, Aberdeen Rgnl, VOR RWY 31, Amdt 21A

Spearfish, SD, Black Hills-Clyde Ice Field, RNAV (GPS) RWY 13, Orig-D

Spearfish, SD, Black Hills-Clyde Ice Field, RNAV (GPS) RWY 31, Amdt 1

Dickson, TN, Dickson Muni, NDB RWY 17, Amdt 3A

Madisonville, TN, Monroe County, RNAV (GPS) RWY 5, Amdt 2C

Springfield, TN, Springfield Robertson County, LOC RWY 4, Amdt 4

College Station, TX, Easterwood Field, ILS OR LOC RWY 35, Amdt 14A

College Station, TX, Easterwood Field, LOC BC RWY 17, Amdt 8A

College Station, TX, Easterwood Field, RNAV (GPS) RWY 11, Amdt 1D

College Station, TX, Easterwood Field, RNAV (GPS) RWY 17, Amdt 1C

College Station, TX, Easterwood Field, RNAV (GPS) RWY 29, Amdt 1B

College Station, TX, Easterwood Field, RNAV (GPS) RWY 35, Amdt 1C

College Station, TX, Easterwood Field, Takeoff Minimums and Obstacle DP, Amdt 4A

College Station, TX, Easterwood Field, VOR RWY 29, Amdt 14A

Corsicana, TX, C David Campbell Field-Corsicana Muni, RNAV (GPS) RWY 14, Orig-C

Dalhart, TX, Dalhart Muni, Takeoff Minimums and Obstacle DP, Orig-A

Dallas, TX, Dallas Executive, RNAV (GPS) RWY 31, Amdt 1A

Gainesville, TX, Gainesville Muni, RNAV (GPS) RWY 36, Amdt 1

Sinton, TX, Alfred C `Bubba' Thomas, VOR RWY 32, Amdt 9A, CANCELED

Ellensburg, WA, Bowers Field, RNAV (GPS) RWY 25, Amdt 1A, CANCELED

Ellensburg, WA, Bowers Field, Takeoff Minimums and Obstacle DP, Amdt 2C

Tacoma, WA, Tacoma Narrows, NDB RWY 35, Amdt 8B, CANCELED

Green Bay, WI, Green Bay-Austin Straubel Intl, ILS OR LOC RWY 6, Amdt 21D

Madison, WI, Dane County Rgnl-Truax Field, RADAR-1, Amdt 18, CANCELED

Sheboygan, WI, Sheboygan County Memorial, RNAV (GPS) RWY 13, Orig-B

Sheboygan, WI, Sheboygan County Memorial, VOR RWY 22, Amdt 9A, CANCELED

Wausau, WI, Wausau Downtown, Takeoff Minimums and Obstacle DP, Amdt 6A

Ravenswood, WV, Jackson County, RNAV (GPS) RWY 4, Orig-A

[FR Doc. 2019-01138 Filed 2-6-19; 8:45 am]

BILLING CODE 4910-13-P